DEPARTMENT OF ENERGY

Federal Energy Regulatory Commission

[Docket No. RP00-229-001]

Tennessee Gas Pipeline Company; Notice of Compliance Filing

May 12, 2000.

Take notice that on May 9, 2000, Tennessee Gas Pipeline Company (Tennessee), tendered for filing the revised tariff sheets identified below for inclusion in Tennessee's FERC Gas Tariff, Fifth Revised Volume No. 1, with an effective date of May 1, 2000:

Substitute Fourth Revised Sheet No. 328

Substitute Fifth Revised Sheet No. 329

Substitute Third Revised Sheet No. 336

Substitute Third Revised Sheet No. 337A

Substitute Third Revised Sheet No. 342

Substitute Second Revised Sheet No. 342A

Substitute Fifth Revised Sheet No. 347

Tenth Revised Sheet No. 412

Tennessee states that this filing is in compliance with the Commission's April 26, 2000 Order Accepting Tariff sheets Subject to Conditions in the above-referenced docket (April 26, Order). Tennessee Gas Pipeline Company, 91 FERC ¶ 61,098 (2000).

Tennessee further states that the April 26 Order required Tennessee to file revised tariff language that would (1) correct the Gas Industry Standards Board version reference in its tariff; and (2) specify the requirements of the waiver set forth in 18 CFR 284.8(i) of the Commission's regulations.

Any person desiring to protest this filing should file a protest with the Federal Energy Regulatory Commission, 888 First Street, NE., Washington, DC 20426, in accordance with section 385.211 of the Commission's Rules and Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-12549 Filed 5-17-00; 8:45 am]

BILLING CODE 6717-01-M